DEPARTMENT OF ENERGY

Federal Energy Regulatory Commission

[Docket No. RP04-48-003]

Portland General Electric Company; Notice of Compliance Filing

January 2, 2004.

Take notice that on December 24, 2003, Portland General Electric Company (Portland) tendered for filing as part of its FERC Gas Tariff, Original Volume No. 1, the following tariff sheets, to become effective on December 3, 2003:

First Revised Sheet No. 4

First Revised Sheet No. 60

First Revised Sheet No. 61

First Revised Sheet No. 79

Portland asserts that the purpose of this filing is to comply with the Commission's December 2, 2003 order in Docket Nos. RP04-48-000, 001 and 002.

Portland states that on December 2, 2003, the Commission issued an order accepting Portland's tariff sheets to provide Part 284 service to be effective December 3, 2003, subject to Portland making certain specified changes relating to the calculation of Portland's depreciation rate, the crediting of penalty revenues to interruptible transportation customers, the lack of feasibility of a segmentation policy on Portland's system, and the ability of shippers to add or change primary points. Portland asserts that the purpose of its filing is to make the changes specified by the Commission.

Any person desiring to protest said filing should file a protest with the Federal Energy Regulatory Commission, 888 First Street, NE, Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E4-29 Filed 1-9-04; 8:45 am]

BILLING CODE 6717-01-P